DEPARTMENT OF LABOR

Employment and Training Administration

Workforce Investment Act Allotments; Wagner-Peyser Act Preliminary Planning Estimates; Reemployment Services Allotments; and Workforce Information Grants to States for Program Year (PY) 2002

AGENCY: Employment and Training Administration, Labor.

ACTION: Notice.

SUMMARY: This Notice announces states' Workforce Investment Act (WIA) allotments for Program Year (PY) 2002 (July 1, 2002-June 30, 2003) for WIA title I Youth, Adults and Dislocated Worker programs; preliminary planning estimates for public employment service (ES) activities under the Wagner-Peyser Act for PY 2002; Reemployment Services Allotments; and Workforce Information Grants to States for Program Year (PY) 2002. The WIA allotments for states and the planning estimates for public employment service activities are based on formulas defined in their respective statutes. The WIA allotments for the outlying areas are based on a formula determined by the Secretary. As required by WIA section 182(d), on February 17, 2000, a Notice of the discretionary formula for allocating PY 2000 funds for the outlying areas was published in the Federal Register at 65 FR 8236 (February 17, 2000). The rationale for the formula and methodology was fully explained in the February 17, 2000, Notice. The formula for PY 2002, like PY 2001, is the same as used for PY 2000 and is described in the section on Youth allotments. Comments are invited upon the formula used to allot funds to the outlying areas.

DATES: Comments must be received by April 8, 2002.

ADDRESSES: Submit written comments to the Employment and Training Administration, Office of Financial and Administrative Management, 200 Constitution Ave, NW., Room N-4702, Washington, DC 20210, Attention: Ms. Sherryl Bailey, 202-693-2813 (phone), 202-693-2859 (fax), e-mail:sbailey@doleta.gov. Please be advised that mail delivery in the Washington, DC area has been inconsistent because of concerns about anthrax contamination.

FOR FURTHER INFORMATION CONTACT: WIA Youth Activities allotments: Lorenzo Harrison at 202-693-3528; WIA Adult and Dislocated Worker Employment and Training Activities allotments: John Beverly at 202-693-3502; ES preliminary planning estimates: Gay Gilbert at 202-693-3428. (These are not toll-free numbers.) Information may also be found at the website— http://usworkforce.org.

SUPPLEMENTARY INFORMATION: The Department of Labor (DOL or Department) is announcing WIA allotments for PY 2002 (July 1, 2002-June 30, 2003) for Youth Activities, Adults and Dislocated Worker Activities, and Wagner-Peyser Act PY 2002 ES preliminary planning estimates. This document provides information on the amount of funds available during PY 2002 to states with an approved WIA title I and Wagner-Peyser 5-Year Strategic Plan and information regarding allotments to the outlying areas. The allotments and estimates are based on the funds appropriated in the Departments of Labor, Health and Human Services, and Education, and Related Agencies Appropriations Act, 2002, Public Law 107-116, January 10, 2002. Attached is a listing of the PY 2002 allotments for programs under WIA Title I Youth Activities, Adults and Dislocated Workers Employment and Training Activities, and PY 2002 preliminary ES planning estimates under the Wagner-Peyser Act. Final Wagner-Peyser Act allotments for the employment service will be published in the Federal Register at a later date.

Youth Activities Allotments. PY 2002 Youth Activities funds under WIA total $1,353,065,000 (including $225.1 million for Youth Opportunity grants). Attachment I contains a breakdown of the $1,127,965,000 in WIA title I Youth Activities program allotments for PY 2002 and provides a comparison of these allotments to PY 2001 Youth Activities allotments for all states, outlying areas, Puerto Rico and the District of Columbia. Before determining the amount available for states, the total available for the outlying areas was reserved at 0.25 percent of the full amount appropriated for Youth Activities, including Youth Opportunity Grants, resulting in $3,382,663, a decrease of $124,750, or 3.6 percent, from the PY 2001 level. WIA section 127(b)(1)(B)(i)(IV) provides that the Freely Associated States (Marshall Islands, Micronesia, and Palau) are not eligible for funding for any program year beginning after September 30, 2001. However, section 3 of Public Law 106-504, (November 13, 2000), supercedes this section of WIA, and provides that the Freely Associated States remain eligible for funding until negotiations on the Compact of Free Association is complete and consideration of legislation pursuant to the Compact is completed. Accordingly, the Freely Associated States are provided funds for PY 2002. The WIA provisions for competitive grants for the outlying areas expired after PY 2001, thus no competitive grant funds are available in PY 2002. The methodology for distributing funds to all outlying areas is not specified by WIA, but is at the Secretary's discretion. The methodology used is the same as used for PY 2001 and PY 2000, i.e., funds are distributed among the areas by formula based on relative share of number of unemployed, a 90 percent hold-harmless of the prior year share, a $75,000 minimum, and a 130 percent stop-gain of the prior year share. Data used for the relative share calculation in the formula were the same as used for PY 2001 and PY 2000 for all outlying areas, essentially using 1995 Census data from special surveys. Updated 2000 special Census data are expected to be available for PY 2003 allotment calculations. The total amount available for Native Americans is 1.5 percent of the total amount for Youth Activities excluding Youth Opportunity Grants, in accordance with WIA section 127. This total is $16,919,475, the same as the PY 2001 Youth Activities level for Native Americans, including the supplemental appropriation. After determining the amount for the outlying areas and Native Americans, the amount available for allotment to the States for PY 2002 is $1,107,662,862, $124,750 more than PY 2001, including the supplemental appropriation. This total amount was above the required $1 billion threshold specified in section 127(b)(1)(C)(iv)(IV); therefore, as in PY 2001, the WIA additional minimum provisions were applied: (1) Minimum 1998 dollar (not percentage) (JTPA II-B and II-C combined) allotment, and (2) 2-tier small State minimum allotment (.3 percent of first $1 billion and .4 percent of amount over $1 billion), rather than .25 percent. These provisions were in addition to the traditional provision of a 90 percent hold-harmless from the prior year allotment percentage. Also, as required by WIA, the provision applying a 130 percent stop-gain of the prior year allotment percentage was used. The three formula factors required in WIA use the following data for the PY 2002 allotments:

(1) The number of unemployed for areas of substantial unemployment (ASU's) are averages for the 12-month period, July 2000 through preliminary June 2001;

(2) The number of excess unemployed individuals or the ASU excess (depending on which is higher) are averages for the same 12-month period used for ASU unemployed data; and

(3) The number of economically disadvantaged youth (age 16 to 21, excluding college students and military) are from the 1990 Census. (2000 Census data are not expected to be available for use until PY 2004 allotment calculations.)

Adult Employment and Training Activities Allotments. The total Adult Employment and Training Activities appropriation is $950,000,000, the same level as PY 2001. Attachment II shows the PY 2002 Adult Employment and Training Activities allotments and comparison to PY 2001 allotments by state. Similarly to the Youth Activities program, the total available for the outlying areas was reserved at 0.25 percent of the full amount appropriated for Adults, or $2,375,000, the same level as PY 2001. As described for Youth Activities above, there are no competitive grants available after PY 2001 for the outlying areas. The Adult Activities funds for grants to all outlying areas, for which the distribution methodology is at the Secretary's discretion, were distributed among the areas by the same principles, formula and data as used for outlying areas for Youth Activities. After determining the amount for the outlying areas, the amount available for allotments to the states is $947,625,000, the same as PY 2001. Unlike the Youth Activities program, the WIA minimum provisions were not applied for the PY 2002 allotments because the total amount available for the states was below the $960 million threshold required for Adults in section 132(b)(1)(B)(iv)(IV). Instead, as required by WIA, the minimum allotments were calculated using the JTPA section 202(a)(3) (as amended by section 701 of the Job Training Reform Amendments of 1992) minimums of 90 percent hold-harmless of the prior year allotment percentage and 0.25 percent state minimum floor. Also, like the Youth Activities program, a provision applying a 130 percent stop-gain of the prior year allotment percentage was used. The three formula factors use the same data as used for the Youth Activities formula, except that data from the 1990 Census for the number of economically disadvantaged adults (age 22 to 72, excluding college students and military) were used. (2000 Census data are not expected to be available for use until PY 2004 allotment calculations.)

Dislocated Worker Employment and Training Activities Allotments. The total Dislocated Worker appropriation is $1,549,000,000, a decrease of $41,040,000, or 2.6 percent, from the PY 2001 pre-rescission level. The total appropriation includes 80 percent allotted by formula to the states, while 20 percent is retained for National Emergency Grants, technical assistance and training, demonstration projects, and for the outlying areas' Dislocated Worker allotments. Attachment III shows the PY 2002 Dislocated Worker Activities fund allotments by state. Like the Youth and Adults programs, the total available for the outlying areas was reserved at 0.25 percent of the full amount appropriated for Dislocated Worker Activities, resulting in $3,872,500, a decrease of $102,600 from PY 2001. As described for Youth Activities above, there are no competitive grants available after PY 2001 for the outlying areas. The Dislocated Worker Activities funds for grants to all outlying areas, for which the distribution methodology is at the Secretary's discretion, were distributed among the areas by the same pro rata share as the areas received for the PY 2002 WIA Adult Activities program, the same methodology used in PY 2001. The amount available for allotments to the states is eighty percent of the Dislocated Worker appropriation, or $1,239,232,000, a decrease of 2.6 percent from PY 2001 pre-rescission level. Since the Dislocated Worker Activities formula has no floor amount or hold-harmless provisions, funding changes for states directly reflect the impact of changes in number of unemployed. The three formula factors required in WIA use the following data for the PY 2002 allotments:

(1) The number of unemployed are averages for the 12-month period, October 2000 through September 2001; (2) The number of excess unemployed are averages for the 12-month period, October 2000 through September 2001; and (3) The number of long-term unemployed are averages for calendar year 2000.

Wagner-Peyser Act Employment Service Preliminary Planning Estimates. The public employment service (ES) program involves a Federal-State partnership between the U.S. Department of Labor and the State Workforce Agencies. Under the Wagner-Peyser Act, funds are allotted to each state to administer a labor exchange program responding to the needs of the state's employers and workers through a system of local employment services offices that are part of the One-Stop service delivery system established by the state. Attachment IV shows the ES preliminary planning estimates for PY 2002. These preliminary planning estimates have been produced using the formula set forth at section 6 of the Wagner-Peyser Act, 29 U.S.C. 49e. They are based on monthly averages for each state's share of the civilian labor force (CLF) and unemployment for the 12 months ending September 2001. Final allotments will be published in the Federal Register, based on calendar year 2001 data, as required by the Wagner-Peyser Act. State planning estimates reflect $16,000,000, or 2.1 percent of the total amount appropriated, which is being withheld from distribution to states to finance postage costs associated with the conduct of Wagner-Peyser Act labor exchange services for PY 2002. The Secretary of Labor is required to set aside up to three percent of the total available funds to assure that each state will have sufficient resources to maintain statewide employment service activities, as required under section 6(b)(4) of the Wagner-Peyser Act. In accordance with this provision, the three percent set-aside funds, or $22,372,050, are included in the total planning estimate. The set-aside funds are distributed in two steps to states that have lost in relative share of resources from the previous year. In Step 1, states that have a CLF below one million and are also below the median CLF density are maintained at 100 percent of their relative share of prior year resources. All remaining set-aside funds are distributed on a pro-rata basis in Step 2 to all other states losing in relative share from the prior year but not meeting the size and density criteria for Step 1. Under Wagner-Peyser Act section 7, ten percent of the total sums allotted to each state shall be reserved for use by the Governor to provide performance incentives for public ES offices; services for groups with special needs; and for the extra costs of exemplary models for delivering job services.

Reemployment Services Allotments. The purpose of these funds is to ensure that all Unemployment Insurance (UI) claimants receive the necessary services to become re-employed. The total funds available for PY 2002 are $35 million, the same as in PY 2001. The allocation figures for the distribution of the $35 million in Reemployment Services funds for each state for PY 2002 are listed in Attachment V. The remaining funds were allocated using the following method: each State received $215,000; the remaining funds were distributed using each state's share of first payments for FY 2001 to UI claimants. There will be a slight increase in funds to the states this year as there was no deduction in PY 2002 for an evaluation of services provided through these funds. Guidance on the use of these funds will be provided in a separate Training and Employment Guidance Letter (TEGL).

Workforce Information Grants to States. Total PY 2002 funding for Workforce Information Grants to States is $38,000,000, the same as for PY 2001. The allotment figures for each state are listed in Attachment VI. Funds are allocated by formula to the fifty states, the District of Columbia, Guam, Puerto Rico and the Virgin Islands. Part of the allotment formula is based on the relative share of the CLF for each entity. Slight year-to-year changes in the size of the CLF in each area resulted in insignificant increases and decreases to PY 2002 allotments, as compared to PY 2001 allotments. Guidance on the use of these funds will be provided in a separate TEGL.

Signed at Washington, DC, this 1st day of March, 2002.
Emily Stover DeRocco,
Assistant Secretary for Employment and Training.

WIA Youth Activities State Allotments Comparison of PY 2002 vs PY 2001
State | PY 2001 with supplemental | PY 2002 | Difference | Percent change
Total | $1,127,965,000 | $1,127,965,000 | $0 | 0.00
Alabama | 19,306,056 | 20,901,613 | 1,595,557 | 8.26
Alaska | 4,198,343 | 4,059,320 | (139,023) | −3.31
Arizona | 20,089,561 | 18,724,084 | (1,365,477) | −6.80
Arkansas | 10,919,626 | 10,968,513 | 48,887 | 0.45
California | 181,546,639 | 174,352,954 | (7,193,685) | −3.96
Colorado | 7,246,178 | 7,246,178 | 0 | 0.00
Connecticut | 9,511,625 | 9,511,625 | 0 | 0.00
Delaware | 3,430,152 | 3,430,651 | 499 | 0.01
District of Columbia | 4,593,113 | 4,134,267 | (458,846) | −9.99
Florida | 41,077,500 | 40,269,848 | (807,652) | −1.97
Georgia | 23,057,280 | 20,753,889 | (2,303,391) | −9.99
Hawaii | 6,131,624 | 5,519,083 | (612,541) | −9.99
Idaho | 4,294,868 | 4,707,720 | 412,852 | 9.61
Illinois | 50,048,681 | 57,523,690 | 7,475,009 | 14.94
Indiana | 13,604,901 | 13,604,901 | 0 | 0.00
Iowa | 4,026,670 | 4,026,670 | 0 | 0.00
Kansas | 4,761,627 | 6,190,812 | 1,429,185 | 30.01
Kentucky | 17,117,753 | 17,117,753 | 0 | 0.00
Louisiana | 23,291,397 | 27,488,847 | 4,197,450 | 18.02
Maine | 3,835,799 | 3,835,799 | 0 | 0.00
Maryland | 13,983,445 | 13,734,681 | (248,764) | −1.78
Massachusetts | 16,005,091 | 16,005,091 | 0 | 0.00
Michigan | 29,775,388 | 38,712,364 | 8,936,976 | 30.01
Minnesota | 9,941,839 | 11,286,720 | 1,344,881 | 13.53
Mississippi | 17,838,009 | 17,273,760 | (564,249) | −3.16
Missouri | 14,918,738 | 15,939,667 | 1,020,929 | 6.84
Montana | 4,273,845 | 4,029,740 | (244,105) | −5.71
Nebraska | 3,430,152 | 3,430,651 | 499 | 0.01
Nevada | 4,522,685 | 4,983,868 | 461,183 | 10.20
New Hampshire | 3,430,152 | 3,430,651 | 499 | 0.01
New Jersey | 29,273,666 | 29,273,666 | 0 | 0.00
New Mexico | 10,733,667 | 10,371,230 | (362,437) | −3.38
New York | 87,084,035 | 78,384,460 | (8,699,575) | −9.99
North Carolina | 18,056,932 | 23,476,656 | 5,419,724 | 30.01
North Dakota | 3,430,152 | 3,430,651 | 499 | 0.01
Ohio | 50,629,664 | 46,654,314 | (3,975,350) | −7.85
Oklahoma | 10,473,505 | 9,427,216 | (1,046,289) | −9.99
Oregon | 15,006,340 | 13,507,227 | (1,499,113) | −9.99
Pennsylvania | 38,152,152 | 39,258,866 | 1,106,714 | 2.90
Puerto Rico | 59,290,102 | 55,047,926 | (4,242,176) | −7.15
Rhode Island | 3,430,152 | 3,430,651 | 499 | 0.01
South Carolina | 14,935,516 | 14,935,516 | 0 | 0.00
South Dakota | 3,430,152 | 3,430,651 | 499 | 0.01
Tennessee | 19,487,876 | 21,110,535 | 1,622,659 | 8.33
Texas | 101,450,596 | 91,315,821 | (10,134,775) | −9.99
Utah | 3,430,152 | 3,803,175 | 373,023 | 10.87
Vermont | 3,430,152 | 3,430,651 | 499 | 0.01
Virginia | 16,534,311 | 16,534,311 | 0 | 0.00
Washington | 23,883,828 | 30,638,767 | 6,754,939 | 28.28
West Virginia | 11,778,246 | 10,601,615 | (1,176,631) | −9.99
Wisconsin | 9,978,027 | 12,972,896 | 2,994,869 | 30.01
Wyoming | 3,430,152 | 3,430,651 | 499 | 0.01
State Total | 1,107,538,112 | 1,107,662,862 | 124,750 | 0.01
American Samoa | 142,207 | 132,755 | (9,452) | −6.65
Guam | 1,389,988 | 1,297,603 | (92,385) | −6.65
Marshall Islands | 224,640 | 300,725 | 76,085 | 33.87
Micronesia | 399,522 | 534,840 | 135,318 | 33.87
Northern Marianas | 156,051 | 208,905 | 52,854 | 33.87
Palau | 82,150 | 76,690 | (5,460) | −6.65
Virgin Islands | 890,320 | 831,145 | (59,175) | −6.65
Outlying Areas Competitive | 222,535 | 0 | (222,535) | −100.00
Outlying Areas Total | 3,507,413 | 3,382,663 | (124,750) | −3.56
Native Americans | 16,919,475 | 16,919,475 | 0 | 0.00

WIA Adult Activities State Allotments Comparison of PY 2002 vs PY 2001
State | PY 2001 | PY 2002 | Difference | Percent change
Total | $950,000,000 | $950,000,000 | $0 | 0.00
Alabama | 17,044,406 | 18,567,668 | 1,523,262 | 8.94
Alaska | 3,728,842 | 3,627,608 | (101,234) | −2.71
Arizona | 17,399,189 | 16,247,051 | (1,152,138) | −6.62
Arkansas | 9,622,728 | 9,708,232 | 85,504 | 0.89
California | 156,375,879 | 150,741,436 | (5,634,443) | −3.60
Colorado | 5,768,432 | 5,191,589 | (576,843) | −10.00
Connecticut | 6,737,675 | 6,063,908 | (673,767) | −10.00
Delaware | 2,369,063 | 2,369,063 | 0 | 0.00
District of Columbia | 3,971,309 | 3,574,178 | (397,131) | −10.00
Florida | 37,761,854 | 35,800,688 | (1,961,166) | −5.19
Georgia | 20,011,763 | 18,010,587 | (2,001,176) | −10.00
Hawaii | 5,444,869 | 4,900,382 | (544,487) | −10.00
Idaho | 3,712,935 | 4,104,687 | 391,752 | 10.55
Illinois | 44,094,693 | 51,107,313 | 7,012,620 | 15.90
Indiana | 10,825,762 | 9,743,186 | (1,082,576) | −10.00
Iowa | 2,888,253 | 3,199,888 | 311,635 | 10.79
Kansas | 4,279,240 | 5,563,012 | 1,283,772 | 30.00
Kentucky | 15,183,245 | 14,391,853 | (791,392) | −5.21
Louisiana | 20,294,120 | 24,177,060 | 3,882,940 | 19.13
Maine | 3,301,438 | 2,971,294 | (330,144) | −10.00
Maryland | 12,196,915 | 12,516,336 | 319,421 | 2.62
Massachusetts | 11,235,182 | 10,111,664 | (1,123,518) | −10.00
Michigan | 24,550,144 | 31,915,187 | 7,365,043 | 30.00
Minnesota | 7,827,789 | 9,926,238 | 2,098,449 | 26.81
Mississippi | 14,744,150 | 14,484,593 | (259,557) | −1.76
Missouri | 12,359,685 | 14,329,577 | 1,969,892 | 15.94
Montana | 3,956,587 | 3,753,106 | (203,481) | −5.14
Nebraska | 2,369,063 | 2,369,063 | 0 | 0.00
Nevada | 4,007,022 | 4,455,812 | 448,790 | 11.20
New Hampshire | 2,369,063 | 2,369,063 | 0 | 0.00
New Jersey | 20,938,883 | 18,844,995 | (2,093,888) | −10.00
New Mexico | 9,393,723 | 8,870,823 | (522,900) | −5.57
New York | 80,628,707 | 72,565,836 | (8,062,871) | −10.00
North Carolina | 16,154,303 | 21,000,594 | 4,846,291 | 30.00
North Dakota | 2,369,063 | 2,369,063 | 0 | 0.00
Ohio | 45,060,208 | 41,709,042 | (3,351,166) | −7.44
Oklahoma | 9,235,649 | 8,312,084 | (923,565) | −10.00
Oregon | 13,460,527 | 12,114,474 | (1,346,053) | −10.00
Pennsylvania | 30,818,747 | 36,183,794 | 5,365,047 | 17.41
Puerto Rico | 52,746,321 | 49,163,463 | (3,582,858) | −6.79
Rhode Island | 2,369,063 | 2,369,063 | 0 | 0.00
South Carolina | 12,698,373 | 11,428,536 | (1,269,837) | −10.00
South Dakota | 2,369,063 | 2,369,063 | 0 | 0.00
Tennessee | 16,306,939 | 19,078,725 | 2,771,786 | 17.00
Texas | 86,576,669 | 77,919,002 | (8,657,667) | −10.00
Utah | 2,478,475 | 2,871,770 | 393,295 | 15.87
Vermont | 2,369,063 | 2,369,063 | 0 | 0.00
Virginia | 12,478,418 | 11,230,576 | (1,247,842) | −10.00
Washington | 21,031,292 | 27,274,610 | 6,243,318 | 29.69
West Virginia | 10,558,659 | 9,502,793 | (1,055,866) | −10.00
Wisconsin | 8,782,497 | 11,417,246 | 2,634,749 | 30.00
Wyoming | 2,369,063 | 2,369,063 | 0 | 0.00
State Total | 947,625,000 | 947,625,000 | 0 | 0.00
American Samoa | 112,713 | 115,594 | 2,881 | 2.56
Guam | 443,439 | 499,361 | 55,922 | 12.61
Marshall Islands | 239,400 | 245,520 | 6,120 | 2.56
Micronesia | 420,122 | 473,102 | 52,980 | 12.61
Northern Marianas | 199,536 | 295,587 | 96,051 | 48.14
Palau | 75,000 | 76,917 | 1,917 | 2.56
Virgin Islands | 594,010 | 668,919 | 74,909 | 12.61
Outlying Areas Competitive | 290,780 | 0 | (290,780) | −100.00
Outlying Areas Total | 2,375,000 | 2,375,000 | 0 | 0.00

WIA Dislocated Worker Activities State Allotments Comparison of PY 2002 vs PY 2001
State | PY 2001 (Pre-rescission) | PY 2002 | Difference | Percent change
Total | $1,590,040,000 | $1,549,000,000 | ($41,040,000) | −2.58
Alabama | 15,068,548 | 22,896,931 | 7,828,383 | 51.95
Alaska | 11,395,001 | 9,671,503 | (1,723,498) | −15.13
Arizona | 12,879,316 | 12,606,123 | (273,193) | −2.12
Arkansas | 7,103,656 | 7,550,450 | 446,794 | 6.29
California | 273,391,437 | 218,507,541 | (54,883,896) | −20.08
Colorado | 8,255,862 | 7,378,805 | (877,057) | −10.62
Connecticut | 7,406,982 | 5,384,702 | (2,022,280) | −27.30
Delaware | 2,184,617 | 2,554,637 | 370,020 | 16.94
District of Columbia | 8,433,959 | 8,837,081 | 403,122 | 4.78
Florida | 39,311,417 | 40,106,859 | 795,442 | 2.02
Georgia | 20,930,127 | 19,039,241 | (1,890,886) | −9.03
Hawaii | 6,477,632 | 4,243,014 | (2,234,618) | −34.50
Idaho | 3,898,217 | 6,382,042 | 2,483,825 | 63.72
Illinois | 41,575,303 | 91,853,295 | 50,277,992 | 120.93
Indiana | 10,682,428 | 12,270,152 | 1,587,724 | 14.86
Iowa | 5,437,368 | 4,837,782 | (599,586) | −11.03
Kansas | 5,502,565 | 6,395,111 | 892,546 | 16.22
Kentucky | 11,735,435 | 11,215,137 | (520,298) | −4.43
Louisiana | 23,158,418 | 44,343,903 | 21,185,485 | 91.48
Maine | 3,214,945 | 3,368,375 | 153,430 | 4.77
Maryland | 17,559,765 | 16,962,636 | (597,129) | −3.40
Massachusetts | 15,134,353 | 12,321,163 | (2,813,190) | −18.59
Michigan | 21,932,071 | 27,662,181 | 5,730,110 | 26.13
Minnesota | 10,473,235 | 11,439,858 | 966,623 | 9.23
Mississippi | 30,701,477 | 19,710,556 | (10,990,921) | −35.80
Missouri | 12,374,521 | 15,805,346 | 3,430,825 | 27.72
Montana | 7,084,638 | 3,291,112 | (3,793,526) | −53.55
Nebraska | 2,997,707 | 2,775,031 | (222,676) | −7.43
Nevada | 5,334,057 | 6,647,377 | 1,313,320 | 24.62
New Hampshire | 1,877,882 | 2,261,165 | 383,283 | 20.41
New Jersey | 30,498,439 | 26,515,582 | (3,982,857) | −13.06
New Mexico | 21,923,521 | 17,696,491 | (4,227,030) | −19.28
New York | 105,559,534 | 67,370,751 | (38,188,783) | −36.18
North Carolina | 16,959,265 | 27,209,712 | 10,250,447 | 60.44
North Dakota | 1,279,725 | 1,198,337 | (81,388) | −6.36
Ohio | 34,309,127 | 34,226,768 | (82,359) | −0.24
Oklahoma | 6,561,865 | 6,478,067 | (83,798) | −1.28
Oregon | 28,811,913 | 29,731,969 | 920,056 | 3.19
Pennsylvania | 38,706,830 | 41,663,107 | 2,956,277 | 7.64
Puerto Rico | 166,101,676 | 122,346,374 | (43,755,302) | −26.34
Rhode Island | 2,885,714 | 2,680,620 | (205,094) | −7.11
South Carolina | 11,936,257 | 11,995,901 | 59,644 | 0.50
South Dakota | 1,283,809 | 985,071 | (298,738) | −23.27
Tennessee | 12,771,543 | 13,927,456 | 1,155,913 | 9.05
Texas | 63,747,179 | 59,784,453 | (3,962,726) | −6.22
Utah | 4,430,131 | 4,334,469 | (95,662) | −2.16
Vermont | 1,240,882 | 1,306,794 | 65,912 | 5.31
Virginia | 12,424,713 | 11,111,364 | (1,313,349) | −10.57
Washington | 27,119,437 | 68,485,602 | 41,366,165 | 152.53
West Virginia | 25,423,973 | 15,231,628 | (10,192,345) | −40.09
Wisconsin | 12,880,353 | 15,314,830 | 2,434,477 | 18.90
Wyoming | 1,663,175 | 1,285,545 | (377,630) | −22.71
State Total | 1,272,032,000 | 1,239,200,000 | (32,832,000) | −2.58
American Samoa | 188,651 | 188,479 | (172) | −0.09
Guam | 742,196 | 814,221 | 72,025 | 9.70
Marshall Islands | 400,690 | 400,327 | (363) | −0.09
Micronesia | 703,169 | 771,405 | 68,236 | 9.70
Northern Marianas | 333,969 | 481,963 | 147,994 | 44.31
Palau | 125,530 | 125,415 | (115) | −0.09
Virgin Islands | 994,210 | 1,090,690 | 96,480 | 9.70
Outlying Area Competitive Grants | 486,685 | 0 | (486,685) | −100.00
Outlying Area Total | 3,975,100 | 3,872,500 | (102,600) | −2.58
National Reserve | 314,032,900 | 305,927,500 | (8,105,400) | −2.58

Employment Service (Wagner-Peyser) Allotments Comparison of PY 2002 Preliminary vs PY 2001 Final
State | PY 2001 final | PY 2002 preliminary | Difference | Percent change
Total | $761,735,000 | $761,735,000 | $0 | 0.00
Alabama | 10,959,154 | 10,930,782 | (28,372) | −0.26
Alaska | 8,106,495 | 8,106,495 | 0 | 0.00
Arizona | 11,647,788 | 11,604,306 | (43,482) | −0.37
Arkansas | 6,349,907 | 6,306,071 | (43,836) | −0.69
California | 89,216,633 | 88,768,436 | (448,197) | −0.50
Colorado | 10,324,433 | 10,245,432 | (79,001) | −0.77
Connecticut | 8,314,954 | 8,060,259 | (254,695) | −3.06
Delaware | 2,082,968 | 2,082,968 | 0 | 0.00
District of Columbia | 3,391,931 | 3,288,033 | (103,898) | −3.06
Florida | 35,254,594 | 36,054,686 | 800,092 | 2.27
Georgia | 19,718,441 | 19,593,183 | (125,258) | −0.64
Hawaii | 3,220,552 | 3,142,472 | (78,080) | −2.42
Idaho | 6,754,153 | 6,754,153 | 0 | 0.00
Illinois | 31,998,185 | 32,608,982 | 610,797 | 1.91
Indiana | 14,316,804 | 14,196,089 | (120,715) | −0.84
Iowa | 6,980,905 | 6,915,792 | (65,113) | −0.93
Kansas | 6,671,747 | 6,658,405 | (13,342) | −0.20
Kentucky | 9,820,530 | 9,784,586 | (35,944) | −0.37
Louisiana | 11,075,973 | 11,000,879 | (75,094) | −0.68
Maine | 4,016,631 | 4,016,631 | 0 | 0.00
Maryland | 13,703,736 | 13,595,498 | (108,238) | −0.79
Massachusetts | 15,324,703 | 15,144,482 | (180,221) | −1.18
Michigan | 24,357,510 | 25,655,401 | 1,297,891 | 5.33
Minnesota | 12,471,659 | 12,607,881 | 136,222 | 1.09
Mississippi | 7,309,108 | 7,150,544 | (158,564) | −2.17
Missouri | 13,680,091 | 13,779,347 | 99,256 | 0.73
Montana | 5,519,529 | 5,519,529 | 0 | 0.00
Nebraska | 6,633,389 | 6,633,389 | 0 | 0.00
Nevada | 5,365,563 | 5,277,141 | (88,422) | −1.65
New Hampshire | 2,993,664 | 2,988,940 | (4,724) | −0.16
New Jersey | 21,130,170 | 20,852,518 | (277,652) | −1.31
New Mexico | 6,193,882 | 6,193,882 | 0 | 0.00
New York | 47,277,511 | 46,369,325 | (908,186) | −1.92
North Carolina | 18,608,828 | 19,702,435 | 1,093,607 | 5.88
North Dakota | 5,620,532 | 5,620,532 | 0 | 0.00
Ohio | 28,306,057 | 28,189,402 | (116,655) | −0.41
Oklahoma | 8,125,646 | 7,894,524 | (231,122) | −2.84
Oregon | 9,557,836 | 9,487,200 | (70,636) | −0.74
Pennsylvania | 30,125,489 | 30,019,064 | (106,425) | −0.35
Puerto Rico | 10,329,110 | 10,103,210 | (225,900) | −2.19
Rhode Island | 2,594,102 | 2,553,652 | (40,450) | −1.56
South Carolina | 9,751,496 | 9,724,715 | (26,781) | −0.27
South Dakota | 5,194,663 | 5,194,663 | 0 | 0.00
Tennessee | 13,719,435 | 13,693,371 | (26,064) | −0.19
Texas | 51,499,427 | 51,334,767 | (164,660) | −0.32
Utah | 10,215,650 | 9,902,734 | (312,916) | −3.06
Vermont | 2,433,477 | 2,433,477 | 0 | 0.00
Virginia | 15,820,479 | 15,736,646 | (83,833) | −0.53
Washington | 16,179,605 | 16,209,660 | 30,055 | 0.19
West Virginia | 5,945,805 | 5,945,805 | 0 | 0.00
Wisconsin | 13,675,955 | 14,254,511 | 578,556 | 4.23
Wyoming | 4,030,272 | 4,030,272 | 0 | 0.00
State Total | 743,917,157 | 743,917,157 | 0 | 0.00
Guam | 348,947 | 348,947 | 0 | 0.00
Virgin Islands | 1,468,896 | 1,468,896 | 0 | 0.00
Postage | 16,000,000 | 16,000,000 | 0 | 0.00

Reemployment Services Allotments Comparison of PY 2002 vs PY 2001
State | PY 2001 | PY 2002 | Difference | Percent change
Total | $35,000,000 | $35,000,000 | $0 | 0.00
Alabama | 651,266 | 630,119 | (21,147) | −3.25
Alaska | 365,535 | 328,839 | (36,696) | −10.04
Arizona | 451,604 | 465,550 | 13,946 | 3.09
Arkansas | 475,622 | 486,834 | 11,212 | 2.36
California | 3,575,611 | 3,286,723 | (288,888) | −8.08
Colorado | 390,985 | 413,399 | 22,414 | 5.73
Connecticut | 557,130 | 559,475 | 2,345 | 0.42
Delaware | 303,789 | 285,842 | (17,947) | −5.91
District of Columbia | 270,930 | 262,811 | (8,119) | −3.00
Florida | 967,082 | 955,823 | (11,259) | −1.16
Georgia | 772,024 | 865,434 | 93,410 | 12.10
Hawaii | 307,688 | 289,505 | (18,183) | −5.91
Idaho | 367,014 | 352,667 | (14,347) | −3.91
Illinois | 1,229,548 | 1,257,198 | 27,650 | 2.25
Indiana | 605,890 | 713,494 | 107,604 | 17.76
Iowa | 486,492 | 496,513 | 10,021 | 2.06
Kansas | 384,490 | 391,468 | 6,978 | 1.81
Kentucky | 569,752 | 577,750 | 7,998 | 1.40
Louisiana | 451,286 | 427,581 | (23,705) | −5.25
Maine | 306,568 | 299,184 | (7,384) | −2.41
Maryland | 533,854 | 502,689 | (31,165) | −5.84
Massachusetts | 806,916 | 812,241 | 5,325 | 0.66
Michigan | 1,329,035 | 1,494,113 | 165,078 | 12.42
Minnesota | 567,105 | 591,759 | 24,654 | 4.35
Mississippi | 406,318 | 418,667 | 12,349 | 3.04
Missouri | 667,578 | 645,625 | (21,953) | −3.29
Montana | 300,549 | 284,097 | (16,452) | −5.47
Nebraska | 303,924 | 306,795 | 2,871 | 0.94
Nevada | 438,513 | 408,158 | (30,355) | −6.92
New Hampshire | 259,911 | 275,008 | 15,097 | 5.81
New Jersey | 1,052,705 | 947,406 | (105,299) | −10.00
New Mexico | 311,391 | 299,076 | (12,315) | −39.5
New York | 1,614,071 | 1,626,347 | 12,276 | 0.76
North Carolina | 1,014,309 | 1,117,194 | 102,885 | 10.14
North Dakota | 255,006 | 248,538 | (6,468) | −2.54
Ohio | 1,006,822 | 1,104,374 | 97,552 | 9.69
Oklahoma | 345,993 | 357,719 | 11,726 | 3.39
Oregon | 708,351 | 686,626 | (21,725) | −3.07
Pennsylvania | 1,544,115 | 1,514,175 | (29,940) | −1.94
Puerto Rico | 611,784 | 547,033 | (64,751) | −10.58
Rhode Island | 344,700 | 322,539 | (22,161) | −6.43
South Carolina | 537,436 | 592,943 | 55,507 | 10.33
South Dakota | 240,703 | 241,992 | 1,289 | 0.54
Tennessee | 773,101 | 793,961 | 20,860 | 2.70
Texas | 1,328,296 | 1,311,777 | (16,519) | −1.24
Utah | 349,335 | 351,075 | 1,740 | 0.50
Vermont | 272,692 | 270,142 | (2,550) | −0.94
Virgin Islands | 218,872 | 218,774 | (98) | −0.04
Virginia | 532,666 | 551,293 | 18,627 | 3.50
Washington | 901,029 | 856,127 | (44,902) | −4.98
West Virginia | 374,349 | 351,524 | (22,825) | −6.10
Wisconsin | 958,471 | 1,008,827 | 50,356 | 5.25
Wyoming | 249,794 | 245,177 | (4,617) | −1.85
State Total | 34,650,000 | 34,650,000 | 0 | 0.00
Reserve | 350,000 | 350,000 | 0 | 0.00

Workforce Information Grants to States Comparison of PY 2002 vs PY 2001
State | PY 2001 | PY 2002 | Difference | Percent change
Total | $38,000,000 | $38,000,000 | $0 | 0.00
Alabama | 618,961 | 615,467 | (3,494) | −0.56
Alaska | 334,067 | 333,082 | (985) | −0.29
Arizona | 653,519 | 660,644 | 7,125 | −0.09
Arkansas | 478,432 | 477,041 | (1,391) | −0.29
California | 2,941,713 | 2,948,593 | 6,880 | 0.23
Colorado | 642,148 | 643,436 | 1,288 | 0.20
Connecticut | 551,662 | 544,272 | (7,390) | −0.34
Delaware | 347,918 | 346,723 | (1,195) | −0.34
District of Columbia | 326,810 | 325,186 | (1,624) | −0.50
Florida | 1,459,745 | 1,478,885 | 19,140 | 1.31
Georgia | 930,201 | 923,001 | (7,200) | −0.77
Hawaii | 375,913 | 376,048 | 135 | 0.04
Idaho | 386,621 | 388,791 | 2,170 | 0.56
Illinois | 1,264,690 | 1,252,163 | (12,527) | −0.99
Indiana | 761,616 | 758,085 | (3,531) | −0.46
Iowa | 525,362 | 528,771 | 3,409 | 0.65
Kansas | 506,904 | 502,144 | (4,760) | −0.94
Kentucky | 590,550 | 588,413 | (2,137) | −0.36
Louisiana | 599,209 | 596,796 | (2,413) | 0.40
Maine | 389,902 | 387,937 | (1,965) | −0.50
Maryland | 726,672 | 721,961 | (4,711) | −0.65
Massachusetts | 792,615 | 794,878 | 2,263 | 0.29
Michigan | 1,088,586 | 1,082,369 | (6,217) | −0.57
Minnesota | 714,254 | 714,447 | 193 | 0.03
Mississippi | 486,228 | 484,006 | (2,222) | −0.46
Missouri | 739,013 | 732,722 | (6,291) | −0.85
Montana | 357,655 | 355,457 | (2,198) | −0.61
Nebraska | 429,591 | 427,840 | (1,751) | −0.41
Nevada | 439,128 | 443,615 | 4,487 | 1.02
New Hampshire | 390,642 | 390,223 | (419) | −0.11
New Jersey | 938,983 | 933,670 | (5,313) | −0.57
New Mexico | 414,200 | 413,924 | (276) | −0.07
New York | 1,669,359 | 1,644,015 | (25,344) | −0.52
North Carolina | 897,707 | 898,050 | 343 | 0.04
North Dakota | 336,378 | 334,743 | (1,635) | −0.49
Ohio | 1,191,106 | 1,184,810 | (6,296) | −0.53
Oklahoma | 538,258 | 541,239 | 2,981 | 0.55
Oregon | 559,304 | 554,850 | (4,454) | −0.80
Pennsylvania | 1,209,409 | 1,208,800 | (609) | −0.05
Puerto Rico | 483,717 | 482,894 | (823) | −0.17
Rhode Island | 362,046 | 360,182 | (1,864) | −0.51
South Carolina | 593,292 | 589,601 | (3,691) | −0.62
South Dakota | 345,961 | 345,412 | (549) | −0.16
Tennessee | 725,224 | 722,937 | (2,287) | −0.32
Texas | 1,893,749 | 1,911,463 | 17,714 | 0.94
Utah | 457,463 | 457,333 | (130) | −0.03
Vermont | 336,671 | 335,917 | (754) | −0.22
Virginia | 850,361 | 857,293 | 6,932 | 0.82
Washington | 759,936 | 742,462 | (17,474) | -2.30
West Virginia | 408,977 | 406,441 | (2,536) | −0.62
Wisconsin | 749,875 | 747,781 | (2,094) | −0.28
Wyoming | 324,838 | 324,516 | (322) | −0.10
State Total | 36,897,141 | 36,821,328 | (75,813) | −0.21
Guam | 68,274 | 68,236 | (38) | −0.06
Virgin Islands | 122,585 | 122,436 | (149) | −0.12
Postage | 912,000 | 988,000 | 76,000 | 8.33

[FR Doc. 02-5410 Filed 3-7-02; 8:45 am]

BILLING CODE 4510-30-P